COMMITTEE FOR PURCHASE FROM PEOPLE WHO ARE BLIND OR SEVERELY DISABLED

Procurement List; Proposed Additions

AGENCY: Committee for Purchase From People Who Are Blind or Severely Disabled.

ACTION: Proposed Additions to the Procurement List.

SUMMARY: The Committee is proposing to add products and services to the Procurement List that will be furnished by nonprofit agencies employing persons who are blind or have other severe disabilities.

Comments Must Be Received on or Before: 3/25/2013.

ADDRESSES: Committee for Purchase From People Who Are Blind or Severely Disabled, Jefferson Plaza 2, Suite 10800, 1421 Jefferson Davis Highway, Arlington, Virginia 22202-3259.

For Further Information or to Submit Comments Contact: Barry S. Lineback, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the products and services listed below from nonprofit agencies employing persons who are blind or have other severe disabilities.

The following products and services are proposed for addition to the Procurement List for production by the nonprofit agencies listed:

Products

NSN: 7930-00-NIB-0645—Detergent, Liquid, High-foaming, Car and Truck Washing, (4) 1-GL Container/BX

NSN: 7930-00-NIB-0647—Liquid Solution, Truck and Trailer Wash, 5 GL

NSN: 7930-00-NIB-0653—Protectant, Liquid, Water-Based, Vehicle Interior Surface, (4) 1-GL Container/BX

Coverage: A-List for the Total Government Requirement as aggregated by the General Services Administration.

NSN: 7930-00-NIB-0646—Detergent, Liquid, High-foaming, Car and Truck Washing, 5 GL

NSN: 7930-00-NIB-0648—Liquid Solution, Truck and Trailer Wash, 55 GL

NSN: 7930-00-NIB-0649—Cleaner/Degreaser, Heavy Duty, Biodegradable, Car and Trucks, 5 GL

NSN: 7930-00-NIB-0650—Cleaner/Degreaser, Heavy Duty, Biodegradable, Car and Trucks, 55 GL

NSN: 7930-00-NIB-0651—Liquid Solution, Concentrated, Vehicle, Wash and Shine, With Wax polymer, (4) 1-GL Container/BX

NSN: 7930-00-NIB-0652—Liquid Solution, Concentrated, Vehicle, Wash and Shine, W/Wax polymer, 5 GL

NSN: 7930-00-NIB-0654—Protectant, Liquid, Water-Based, Vehicle Interior Surface, 5 GL

NSN: 7930-00-NIB-0655—Cleaner, Wheel and Tire, 5 GL

NSN: 7930-00-NIB-0657—Bug Remover, Concentrated, Gelling, Vehicle, 5 GL

NSN: 7930-00-NIB-0666—Detergent, Oil and Water Separating, Heavy Duty, Biodegradable, Trucks and Trailers, 5 GL

NSN: 7930-00-NIB-0667—Detergent, Oil and Water Separating, Heavy Duty, Biodegradable, Trucks and Trailers, 55 GL

Coverage: B-List for the Broad Government Requirement as aggregated by the General Services Administration.

NPA: Susquehanna Association for the Blind and Vision Impaired, Lancaster, PA

Contracting Activity: General Services Administration, Fort Worth, TX.

NSN: 7530-00-NIB-0988—Cover, Record Book, Digital Camo, 6″ x 9″

NPA: New York City Industries for the Blind, Inc., Brooklyn, NY

Contracting Activity: General Services Administration, New York, NY.

Coverage: A-List for the Total Government Requirement as aggregated by the General Services Administration.

Services

Service Type/Location: Base Supply Center, Barnes Federal Building, 495 Summer Street, Boston, MA.

NPA: Industries for the Blind, Inc., West Allis, WI.

Contracting Activity: Defense Contract Management Agency (DCMA), DCMA Procurement Center, Boston, MA.

Service Type/Location: Laundry Service, Weed Army Community Hospital (WACH), 2nd Street, Building 166, Fort Irwin, CA.

NPA: Job Options, Inc., San Diego, CA.

Contracting Activity: Dept of the Army, W40M Western Rgnl Cntrg OFC, Tacoma, WA.

Service Type/Location: Custodial Service, Harrisonburg Courthouse, 116 North Main Street, Harrisonburg, VA.

NPA: Portco, Inc., Portsmouth, VA.

Contracting Activity: Public Buildings Service, GSA/PBS/R03 South Service Center, Phildelphia, PA.

Service Type/Location: Coating of Polypropylene Plastic Bleeding Tubes, Department of Agriculture (USDA), Animal Plant Health Inspection Service's (APHIS) National Veterinary Stockpile (NVS), (Offsite: 12600 Third St., Grandview, MO), 1541 E. Bannister Road, Kansas City, MO.

NPA: JobOne, Independence, MO.

Contracting Activity: Department of Agriculture, Animal and Plant Health Inspection Service, Minneapolis, MN.

Barry S. Lineback,
Director, Business Operations.

[FR Doc. 2013-04087 Filed 2-21-13; 8:45 am]

BILLING CODE 6353-01-P